DEPARTMENT OF ENERGY

Federal Energy Regulatory Commission

Combined Notice of Filings #1

Take notice that the Commission received the following electric corporate filings:

Docket Numbers: EC25-98-000.

Applicants: Tomorrow Energy Corp, Six One Commodities LLC.

Description: Application for Authorization Under Section 203 of the Federal Power Act of Tomorrow Energy Corp.

Filed Date: 6/6/25.

Accession Number: 20250606-5252.

Comment Date: 5 p.m. ET 6/27/25.

Take notice that the Commission received the following exempt wholesale generator filings:

Docket Numbers: EG25-348-000.

Applicants: Anson Solar Center 2, LLC.

Description: Anson Solar Center 2, LLC submits Notice of Self-Certification of Exempt Wholesale Generator Status.

Filed Date: 6/9/25.

Accession Number: 20250609-5152.

Comment Date: 5 p.m. ET 6/30/25.

Take notice that the Commission received the following Complaints and Compliance filings in EL Dockets:

Docket Numbers: EL25-81-000; QF25-796-001; QF25-797-001; QF25-800-001; QF16-365-005; QF16-379-005; QF16-381-004; QF16-382-004; QF16-369-005; QF21-661-002; QF16-366-004; QF24-367-002; QF24-368-002; QF24-369-001; QF24-370-001.

Applicants: Allco Finance Limited.

Description: Amended Petition for Enforcement Pursuant to Section 210(h)(2)(B) of the Public Utility Regulatory Policies Act of 1978 of Allco Finance Limited.

Filed Date: 6/6/25.

Accession Number: 20250606-5085.

Comment Date: 5 p.m. ET 6/20/25.

Docket Numbers: EL25-90-000.

Applicants: Consumers Energy Company v. Midcontinent Independent System Operator, Inc.

Description: Complaint of Consumers Energy Company v. Midcontinent Independent System Operator, Inc.

Filed Date: 6/6/25.

Accession Number: 20250606-5231.

Comment Date: 5 p.m. ET 6/20/25.

Take notice that the Commission received the following electric rate filings:

Docket Numbers: ER10-1790-024; ER14-2672-025; ER12-1825-038; ER13-33-009; ER11-2041-019; ER11-3325-007; ER23-652-001; ER23-2802-001.

Applicants: Oxbow Solar Farm 1, LLC, Happy Solar 1, LLC, Whiting Clean Energy, Inc., Innovative Energy Systems, LLC, Collegiate Clean Energy, LLC, EDF Industrial Power Services (CA), LLC, EDF Energy Services, LLC, BP Energy Company.

Description: Supplement to 07/01/2024, Triennial Market Power Analysis for Central Region of BP Energy Company et al.

Filed Date: 6/6/25.

Accession Number: 20250606-5248.

Comment Date: 5 p.m. ET 6/27/25.

Docket Numbers: ER10-2564-014; ER10-2289-014; ER10-2600-014.

Applicants: UNS Electric, Inc., UniSource Energy Development Company, Tucson Electric Power Company.

Description: Supplement to December 31, 2024, Triennial Market Power Analysis for Southwest Region of Tucson Electric Power Company, et al.

Filed Date: 6/5/25.

Accession Number: 20250605-5182.

Comment Date: 5 p.m. ET 6/26/25.

Docket Numbers: ER25-1966-000; ER25-1967-000.

Applicants: Lockhart Solar PV IV, LLC, Desert Breeze Solar, LLC.

Description: Supplement to 04/15/2025 Desert Breeze Solar, LLC, et al. tariff filing.

Filed Date: 6/5/25.

Accession Number: 20250605-5181.

Comment Date: 5 p.m. ET 6/16/25.

Docket Numbers: ER25-2093-001.

Applicants: Southwestern Electric Power Company.

Description: Tariff Amendment: Rate Schedule No. 128, Revised and Restated Minden PSA to be effective 5/30/2025.

Filed Date: 6/9/25.

Accession Number: 20250609-5156.

Comment Date: 5 p.m. ET 6/30/25.

Docket Numbers: ER25-2198-001.

Applicants: PJM Interconnection, L.L.C.

Description: Tariff Amendment: Amendment to Original GIA SA No. 7665; Project Identifier AE1-205 to be effective 4/11/2025.

Filed Date: 6/9/25.

Accession Number: 20250609-5166.

Comment Date: 5 p.m. ET 6/30/25.

Docket Numbers: ER25-2454-000.

Applicants: Midcontinent Independent System Operator, Inc.

Description: 205(d) Rate Filing: 2025-06-06_Att X—Expedited Resource Addition Study (ERAS) (refile) to be effective 8/6/2025.

Filed Date: 6/6/25.

Accession Number: 20250606-5228.

Comment Date: 5 p.m. ET 6/16/25.

Docket Numbers: ER25-2455-000.

Applicants: Midcontinent Independent System Operator, Inc.

Description: 205(d) Rate Filing: 2025-06-06_MISO-SPP JOA to include MISO ERAS to be effective 8/6/2025.

Filed Date: 6/6/25.

Accession Number: 20250606-5229.

Comment Date: 5 p.m. ET 6/16/25.

Docket Numbers: ER25-2456-000.

Applicants: Tri-State Generation and Transmission Association, Inc.

Description: 205(d) Rate Filing: Initial Filing of Rate Schedule Nos. 414, 415, 416, 417, and 418 to be effective 8/6/2025.

Filed Date: 6/6/25.

Accession Number: 20250606-5235.

Comment Date: 5 p.m. ET 6/27/25.

Docket Numbers: ER25-2457-000.

Applicants: PJM Interconnection, L.L.C.

Description: 205(d) Rate Filing: Amendment to ISA, Service Agreement No. 6725; Queue Position No. AE2-117 to be effective 8/9/2025.

Filed Date: 6/9/25.

Accession Number: 20250609-5063.

Comment Date: 5 p.m. ET 6/30/25.

Docket Numbers: ER25-2458-000.

Applicants: Midcontinent Independent System Operator, Inc., Ameren Illinois Company.

Description: 205(d) Rate Filing: Ameren Illinois Company submits tariff filing per 35.13(a)(2)(iii: 2025-06-09_SA 4493 Ameren Illinois-Sullivan-IMEA WCA to be effective 8/9/2025.

Filed Date: 6/9/25.

Accession Number: 20250609-5095.

Comment Date: 5 p.m. ET 6/30/25.

Docket Numbers: ER25-2459-000.

Applicants: PJM Interconnection, L.L.C.

Description: 205(d) Rate Filing: Amendment of ISA SA No. 5550; Queue No. AB2-047 to be effective 8/9/2025.

Filed Date: 6/9/25.

Accession Number: 20250609-5098.

Comment Date: 5 p.m. ET 6/30/25.

Docket Numbers: ER25-2460-000.

Applicants: Amazon Energy LLC.

Description: 205(d) Rate Filing: Normal filing 2025 to be effective 6/11/2025.

Filed Date: 6/9/25.

Accession Number: 20250609-5104.

Comment Date: 5 p.m. ET 6/30/25.

Docket Numbers: ER25-2461-000.

Applicants: Southwest Power Pool, Inc.

Description: 205(d) Rate Filing: SPP-MISO JOA Revisions to Include MISO ERAS in JTIQ to be effective 8/6/2025.

Filed Date: 6/9/25.

Accession Number: 20250609-5148.

Comment Date: 5 p.m. ET 6/16/25.

Docket Numbers: ER25-2462-000.

Applicants: Midcontinent Independent System Operator, Inc., Otter Tail Power Company.

Description: 205(d) Rate Filing: Otter Tail Power Company submits tariff filing per 35.13(a)(2)(iii: 2025-06-09_OTP Request for Incentives to be effective 8/9/2025.

Filed Date: 6/9/25.

Accession Number: 20250609-5158.

Comment Date: 5 p.m. ET 6/30/25.

Docket Numbers: ER25-2463-000.

Applicants: Appalachian Power Company.

Description: Tariff Amendment: APCo RS and SA Tariffs Clean-up Filing to be effective 7/31/2017.

Filed Date: 6/9/25.

Accession Number: 20250609-5161.

Comment Date: 5 p.m. ET 6/30/25.

Take notice that the Commission received the following foreign utility company status filings:

Docket Numbers: FC25-3-000.

Applicants: 174PG Torreon S. de RL de CV.

Description: 174PG Torreon S. de RL de CV submits Notice of Self-Certification of Foreign Utility Company Status.

Filed Date: 6/9/25.

Accession Number: 20250609-5101.

Comment Date: 5 p.m. ET 6/30/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 9, 2025.
Carlos D. Clay,
Deputy Secretary.

[FR Doc. 2025-10772 Filed 6-12-25; 8:45 am]

BILLING CODE 6717-01-P